DEPARTMENT OF ENERGY

Federal Energy Regulatory Commission

Combined Notice of Filings #2

Take notice that the Commission received the following electric rate filings:

Docket Numbers: ER17-107-001.

Applicants: Southwest Power Pool, Inc.

Description: Compliance filing: Compliance Filing in ER17-107—Orders 827 and 828 to be effective 9/21/2016.

Filed Date: 2/28/17.

Accession Number: 20170228-5220.

Comments Due: 5 p.m. ET 3/21/17.

Docket Numbers: ER17-787-001.

Applicants: Southern California Edison Company.

Description: Tariff Amendment: Request for Deferral of Action—Notice of Cancellation Ecos Energy, LLC to be effective 12/31/9998.

Filed Date: 2/28/17.

Accession Number: 20170228-5103.

Comments Due: 5 p.m. ET 3/21/17.

Docket Numbers: ER17-808-001.

Applicants: Clearview Electric, Inc.

Description: Tariff Amendment: Amendment to Application for MBR to be effective 1/23/2017.

Filed Date: 2/28/17.

Accession Number: 20170228-5214.

Comments Due: 5 p.m. ET 3/21/17.

Docket Numbers: ER17-913-001.

Applicants: Consolidated Edison Company of New York, Inc.

Description: Tariff Amendment: Amendment PASNY RY 1 filing to be effective 2/1/2017.

Filed Date: 2/28/17.

Accession Number: 20170228-5098.

Comments Due: 5 p.m. ET 3/21/17.

Docket Numbers: ER17-934-001.

Applicants: PJM Interconnection, L.L.C.

Description: Tariff Amendment: Errata to 2/3/17 Filing of Revisions to MISO-PJM JOA re CTS Eff Date to be effective 10/3/2017.

Filed Date: 2/28/17.

Accession Number: 20170228-5225.

Comments Due: 5 p.m. ET 3/21/17.

Docket Numbers: ER17-1049-000.

Applicants: Mid-Atlantic Interstate Transmission, LLC, PJM Interconnection, L.L.C.

Description: § 205(d) Rate Filing: ATSI and MAIT submit Interconnection Agreement SA No. 4576 to be effective 2/1/2017.

Filed Date: 2/28/17.

Accession Number: 20170228-5105.

Comments Due: 5 p.m. ET 3/21/17.

Docket Numbers: ER17-1050-000.

Applicants: Consolidated Edison Company of New York, Inc.

Description: § 205(d) Rate Filing: WDS Tariff change RY 1 to be effective 5/1/2017.

Filed Date: 2/28/17.

Accession Number: 20170228-5109.

Comments Due: 5 p.m. ET 3/21/17.

Docket Numbers: ER17-1051-000.

Applicants: AEP Texas Inc.

Description: Baseline eTariff Filing: AEP Texas Inc. RS and SA Tariff Database to be effective 3/1/2017.

Filed Date: 2/28/17.

Accession Number: 20170228-5143.

Comments Due: 5 p.m. ET 3/21/17.

Docket Numbers: ER17-1052-000.

Applicants: AEP Texas Inc.

Description: § 205(d) Rate Filing: AEP TX-SolaireHolman 1 Interconnection Agreement to be effective 3/1/2017.

Filed Date: 2/28/17.

Accession Number: 20170228-5161.

Comments Due: 5 p.m. ET 3/21/17.

Docket Numbers: ER17-1053-000.

Applicants: ITC Midwest LLC.

Description: § 205(d) Rate Filing: Filing of CIAC Agreement with IP&L to be effective 5/1/2017.

Filed Date: 2/28/17.

Accession Number: 20170228-5197.

Comments Due: 5 p.m. ET 3/21/17.

Docket Numbers: ER17-1054-000.

Applicants: PSEG Energy Resources & Trade LLC.

Description: § 205(d) Rate Filing: Cancellation of certain tariff records to be effective 2/28/2017.

Filed Date: 2/28/17.

Accession Number: 20170228-5205.

Comments Due: 5 p.m. ET 3/21/17.

Docket Numbers: ER17-1055-000.

Applicants: Northern States Power Company, a Minnesota corporation.

Description: Notice of Cancellation of Interconnection Agreement Rate Schedule No. 496 of Northern States Power Company, a Minnesota corporation.

Filed Date: 2/28/17.

Accession Number: 20170228-5212.

Comments Due: 5 p.m. ET 3/21/17.

Docket Numbers: ER17-1056-000.

Applicants: Public Service Company of Colorado.

Description: § 205(d) Rate Filing: PSCo-TSGT-JM Shafer-Mtrg-Mod-460-0.0.0 to be effective 2/28/2017.

Filed Date: 2/28/17.

Accession Number: 20170228-5215.

Comments Due: 5 p.m. ET 3/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 28, 2017.
Nathaniel J. Davis, Sr.,
Deputy Secretary.

[FR Doc. 2017-04286 Filed 3-3-17; 8:45 am]

BILLING CODE 6717-01-P